ENVIRONMENTAL PROTECTION AGENCY

[FRL-9747-4]

Senior Executive Service Performance Review Board; Membership

AGENCY: U.S. Environmental Protection Agency (EPA).

ACTION: Notice.

SUMMARY: Notice is hereby given of the membership of the U.S. Environmental Protection Agency Performance Review Board for 2012.

FOR FURTHER INFORMATION CONTACT: Karen D. Higginbotham, Director, Executive Resources Division, 3606A, Office of Human Resources, Office of Administration and Resources Management, U.S. Environmental Protection Agency, 1200 Pennsylvania Avenue NW., Washington, DC 20460, (202) 564-7287.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the 2012 EPA Performance Review Board are:

Benita Best-Wong, Deputy Director, Office of Wetlands, Oceans and Watersheds, Office of Water;

Bruce Binder, Senior Associate Director for Grants Competition, Office of Grants and Debarment, Office of Administration and Resources Management;

David Bloom, Director, Office of Budget, Office of the Chief Financial Officer;

Barry N. Breen, Principal Deputy Assistant Administrator, Office of Solid Waste and Emergency Response;

Jeanette Brown, Director, Office of Small Business Programs, Office of the Administrator;

Dennis Bushta, Deputy Director, Office of Administration, Office of Administration and Resources Management;

Rafael DeLeon (Ex-Officio), Director, Office of Civil Rights, Office of the Administrator;

Sarah Dunham, Director, Office of Atmospheric Programs, Office of Air and Radiation;

James Giattina, Director, Water Management Division, Region 4;

Robin Gonzalez, Director, Enterprise IT Systems, Office of Environmental Information;

Sally Gutierrez, Director, Environmental Technology Innovation Cluster Program, Office of Research and Development;

Joan Harrigan-Farrelly, Director, Antimicrobials Division, Office of Chemical Safety and Pollution Prevention;

Karen D. Higginbotham (Ex-Officio), Director, Executive Resources Division, Office of Human Resources, Office of Administration and Resources Management;

Peter Jutro, Senior Scientist, National Homeland Security Research Center, Office of Research and Development;

Susan Kantrowitz (Ex-Officio), Director, Office of Human Resources, Office of Administration and Resources Management;

Brenda Mallory, Principal Deputy General Counsel, Office of General Counsel;

Suzanne Murray, Regional Counsel, Region 6, Office of Enforcement and Compliance Assurance;

George Pavlou, Deputy Regional Administrator, Region 2;

Cynthia Sonich-Mullin, Director, National Risk Management Research Laboratory, Cincinnati;

Michael M. Stahl, Deputy Assistant Administrator, Office of International and Tribal Affairs; and

Alexis Strauss-Hacker, Deputy Regional Administrator, Region 9.

Dated: October 23, 2012.
Craig E. Hooks,
Assistant Administrator, Administration and Resources Management.

[FR Doc. 2012-26655 Filed 10-29-12; 8:45 am]

BILLING CODE 6560-50-P